FEDERAL COMMUNICATIONS COMMISSION

Public Safety and Homeland Security Bureau; Federal Advisory Committee Act; Communications Security, Reliability, and Interoperability Council

AGENCY: Federal Communications Commission.

ACTION: Notice of cancellation of meeting.

SUMMARY: The meeting of the Communications Security, Reliability, and Interoperability Council (CSRIC III) scheduled for December 5, 2012, at Federal Communications Commission headquarters in Washington, DC, has been cancelled.

FOR FURTHER INFORMATION CONTACT: Jeffery Goldthorp, Designated Federal Officer of the FCC's CSRIC, (202) 418-1096 (voice) or jeffery.goldthorp@fcc.gov (email); or Lauren Kravetz, Deputy Designated Federal Officer of the FCC's CSRIC, (202) 418-7944 (voice) or lauren.kravetz@fcc.gov (email).

SUPPLEMENTARY INFORMATION: The CSRIC meeting scheduled for Wednesday, December 5, 2012, has been cancelled. CSRIC is scheduled to meet next on Wednesday, March 6, 2013, at 9 a.m. in the Commission Meeting Room of the Federal Communications Commission. Additional information regarding the CSRIC can be found at: http://www.fcc.gov/pshs/advisory/csric/.

Federal Communications Commission.
Marlene H. Dortch,
Secretary.

[FR Doc. 2012-28720 Filed 11-26-12; 8:45 am]

BILLING CODE 6712-01-P